DEPARTMENT OF HEALTH AND HUMAN SERVICES

National Institutes of Health

National Cancer Institute; Amended Notice of Meeting

Notice is hereby given of a change in the meeting of the National Cancer Institute Special Emphasis Panel, March 9, 2006, 8 a.m. to March 10, 2006, 5 p.m., Bethesda Marriott, 5151 Pooks Hill Road, Bethesda, MD, 20814 which was published in the Federal Register on January 24, 2006, 71FR3861.

The meeting is amended to change the contact person from Timothy C. Meeker, M.D., Scientific Review Administrator (SRA) to Joyce C. Pegues, PhD, SRA, NCI, 6116 Executive Blvd., Rm 7149, Bethesda, MD 20892, (301) 594-1286. The meeting is closed to the public.

Dated: Feb. 21, 2006.
Anna Snouffer,
Acting Director, Office of Federal Advisory Committee Policy.

[FR Doc. 06-1880 Filed 2-28-06; 8:45 am]

BILLING CODE 4140-01-M